SUSQUEHANNA RIVER BASIN COMMISSION

Grandfathering Registration Notice

AGENCY: Susquehanna River Basin Commission.

ACTION: Notice.

SUMMARY: This notice lists Grandfathering Registration for projects by the Susquehanna River Basin Commission during the period set forth in DATES.

DATES: December 1, 2025-January 31, 2026.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.gov. Regular mail inquiries may be sent to the above address.

SUPPLEMENTARY INFORMATION: This notice lists GF Registration for projects, described below, pursuant to 18 CFR part 806, subpart E, for the time period specified above:

1. Pennsylvania—American Water Company—Brownell/Fall Brook Service Territory, GF Certificate No. GF-202512308, Various Municipalities and Counties, Pa.; see Addendum; Issue Date: December 12, 2025.

2. Tyson Foods, Inc.—New Holland Facility, GF Certificate No. GF-202601309, Earl Township and New Holland Borough, Lancaster County, Pa.; consumptive use; Issue Date: January 21, 2026.

Authority: Public Law 91-575, 84 Stat. 1509 et seq., 18 CFR parts 806 and 808.

Dated: January 27, 2026.
Jason E. Oyler,
General Counsel and Secretary to the Commission.

[FR Doc. 2026-01794 Filed 1-28-26; 8:45 am]

BILLING CODE 7040-01-P